DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic RuggCom RS900G, RS900L, and RS930L network controllers for replacement of outdated network controllers on Recovery Act project; X-STP-S000(497) in Oregon State.

DATES: The effective date of the waiver is August 3, 2011.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 8 a.m. to 4:30 p.m., E.T., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic RuggCom RS900G, RS900L, and RS930L network controllers for replacement of outdated network controllers on Recovery Act project; X-STP-S000(497) in Oregon State.

In accordance with Division A, section 123 of the “Consolidated Appropriations Act, 2010” (Pub. L. 111-117), the FHWA published a notice of intent to issue a waiver on its Web site for RuggCom RS900G, RS900L, and RS930L network controllers for replacement of outdated network controllers (http://www.fhwa.dot.gov/construction/contracts/waivers.cfm?id=54) on April 6th. The FHWA received three comments in response to the publication. The first comment suggested a potential domestic manufacturer; Optelecom-NKF based in Maryland. Optelecom-NKF was contacted by ODOT, and the company stated that their products are manufactured outside the country but assembled domestically. The second commenter simply opposed the waiver request but did not suggest a domestic manufacturer. The third commenter supported the waiver request based on his experience with the RuggCom RS900G, RS900L, and RS930L network controllers. During the 15-day comment period, the FHWA conducted additional nationwide review to locate potential domestic manufacturers for RuggCom RS900G, RS900L, and RS930L network controllers. Based on all the information available to the agency, the FHWA concludes that there are no domestic manufacturers of RuggCom RS900G, RS900L, and RS930L network controllers.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Oregon waiver page noted above.

Authority: 23 U.S.C. 313; Pub. L. 110-161, 23 CFR 635.410.

Issued on: July 26, 2011.
Victor M. Mendez,
Federal Highway Administrator.

[FR Doc. 2011-19509 Filed 8-1-11; 8:45 am]

BILLING CODE 4910-22-P